DEPARTMENT OF COMMERCE

International Trade Administration

[A-557-816]

Certain Steel Nails From Malaysia: Final Results of Antidumping Duty Administrative Review; 2021-2022; Correction

AGENCY: Enforcement and Compliance, International Trade Administration, Department of Commerce.

ACTION: Notice; correction.

SUMMARY: The U.S. Department of Commerce (Commerce) published notice in the Federal Register of February 6, 2024, in which Commerce published the final results of the 2021-2022 antidumping duty administrative review of certain steel nails (nails) from Malaysia. This notice omitted the name of one non-selected respondent, RM Wire Industries Sdn., Bhd., from Appendix II (“List of Non-Selected Respondents”).

FOR FURTHER INFORMATION CONTACT: John Drury or Tyler Weinhold, AD/CVD Operations, Office VI, Enforcement and Compliance, International Trade Administration, U.S. Department of Commerce, 1401 Constitution Avenue NW, Washington, DC 20230; telephone: (202) 482-0195 or (202) 482-1121, respectively.

SUPPLEMENTARY INFORMATION:

Background

On February 6, 2024, Commerce published in the Federal Register the Final Results of the administrative review of nails from Malaysia.¹ We omitted from Appendix II of that notice, entitled “List of Non-Selected Respondents,” the name of one non-selected respondent, RM Wire Industries Sdn., Bhd.

¹ See Certain Steel Nails from Malaysia: Final Results of Antidumping Duty Administrative Review; 2021-2022, 89 FR 8163 (February 6, 2024) (Final Results).

Correction

In the Federal Register of February 6, 2024, in FR Doc 2024-02294, on page 8165, in the first column, correct Appendix II by adding “RM Wire Industries Sdn., Bhd.” to the alphabetical list of non-selected respondents, after “Oman Fasteners LLC.” and before “Soon Shing Building Materials Sdn., Bhd.”

Notification to Interested Parties

This notice is issued and published in accordance with section(s) 751(a)(1) and 777(i)(1) of the Tariff Act of 1930, as amended, and 19 CFR 351.221.

Dated: March 20, 2024.
Ryan Majerus,
Deputy Assistant Secretary for Policy and Negotiations, performing the non-exclusive functions and duties of the Assistant Secretary for Enforcement and Compliance.

[FR Doc. 2024-06363 Filed 3-25-24; 8:45 am]

BILLING CODE 3510-DS-P